OFFICE OF MANAGEMENT AND BUDGET

Federal Regulatory Review

AGENCY: Office of Management and Budget, Executive Office of the President.

ACTION: Extension of request for comments.

SUMMARY: The Director of the Office of Management and Budget (OMB) extends the deadline for public comments on how to improve the process and principles governing Federal regulatory review.

DATES: Comments must be in writing and received by March 31, 2009.

ADDRESSES: Submit comments by one of the following methods:

• E-mail: oira_submission@omb.eop.gov.

• Fax: (202) 395-7245.

• Mail: Office of Information and Regulatory Affairs Records Management Center, Office of Management and Budget, Attn: Mabel Echols, 10th Floor NEOB, 725 17th Street, NW., Washington, DC 20503. We are still experiencing delays in the regular mail, including first class and express mail. To ensure that your comments are received on time, we recommend that comments be electronically submitted.

All comments submitted in response to this notice will be made available to the public on OMB's Web site, http://www.reginfo.gov. For this reason, please do not include in your comments information of a confidential nature, such as sensitive personal information or proprietary information. If you send an e-mail comment directly to OMB, your e-mail address will be automatically captured and included as part of the comment that is placed in the public docket and made available on the Internet.

FOR FURTHER INFORMATION CONTACT: Mabel Echols, Office of Information and Regulatory Affairs, Records Management Center, Office of Management and Budget, 10th Floor NEOB, 725 17th Street, NW., Washington, DC 20503. Telephone: (202) 395-6880.

SUPPLEMENTARY INFORMATION: Consistent with the President's Memorandum for the Heads of Executive Departments and Agencies, published in the Federal Register [74 FR 5977], the Director of OMB is developing a set of recommendations for a new Executive Order on Federal regulatory review. Among other things, the President stated that the recommendations should offer suggestions for the following:

• The relationship between OIRA and the agencies;

• Disclosure and transparency;

• Encouraging public participation in agency regulatory processes;

• The role of cost-benefit analysis;

• The role of distributional considerations, fairness, and concern for the interests of future generations;

• Methods of ensuring that regulatory review does not produce undue delay;

• The role of the behavioral sciences in formulating regulatory policy; and

• The best tools for achieving public goals through the regulatory process.

On February 26, 2009, the Director of OMB issued a notice, published in the Federal Register [74 FR 8819], inviting public comments on the principles and procedures governing regulatory review. He requested that comments be received by March 16, 2009. Today's action extending the comment period to March 31, 2009 was prompted by requests from a number of interested members of the public. The Director of OMB believes that, due to the unusually high level of public interest, additional time is warranted.

This public process is not intended to, and does not, create any right or benefit, substantive or procedural, enforceable at law or in equity by any party against the United States, its departments, agencies, or entities, its officers, employees, or agents, or any other person.

Kevin F. Neyland,
Acting Administrator, Office of Information and Regulatory Affairs.

[FR Doc. E9-5763 Filed 3-16-09; 8:45 am]

BILLING CODE 3110-01-P